DEPARTMENT OF DEFENSE

Department of the Army

Availability for Non-Exclusive, Exclusive, or Partially Exclusive Licensing of U.S. Patent Application Concerning Anthrax Vaccines

AGENCY: U.S. Army Medical Research and Material Command, DoD.

ACTION: Notice.

SUMMARY: In accordance with 37 CFR 404.6, announcement is made of the availability for licensing of U.S. Patent Application Serial No. 09/350,729 entitled “Anthrax Vaccines” and filed July 9, 1999. Foreign rights are also available (PCT/US99/15568). This patent application has been assigned to the United States Government as represented by the Secretary of the Army.

ADDRESSES: Commander, U.S. Army Medical Research and Material Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: Using the nontoxic PA protein from B. anthracis, a method and composition for use in inducing an immune response which is protective against anthrax in subjects is described.

Luz D. Ortiz,
Army Federal Register Liaison Officer.

[FR Doc. 01-18011 Filed 7-18-01; 8:45 am]

BILLING CODE 3710-08-M